DEPARTMENT OF ENERGY

Federal Energy Regulatory Commission

[Project Nos. 2710-061; 2712-078]

Black Bear Hydro Partners, LLC and Black Bear Development Holdings, LLC and Black Bear SO, LLC; Notice of Application for Partial Transfer of Licenses, and Soliciting Comments and Motions To Intervene

On October 25, 2012, Black Bear Hydro Partners, LLC, sole licensee (transferor) and Black Bear Development Holdings, LLC and Black Bear SO, LLC (transferees) filed an application for the partial the transfer of licenses for the Orono Hydroelectric Project, FERC No. 2710, and the Stillwater Hydroelectric Project, FERC No. 2712, both located on the Stillwater Branch of the Penobscot River in Penobscot County, Maine.

Applicants seek Commission approval to partially transfer the licenses for the Orono and Stillwater Hydroelectric Projects from the transferor as sole licensee to the transferor and transferees as co-licensees.

Applicants' Contact: Ms. Christine Miller, Esq., Black Bear Hydro Partners, LLC, Black Bear Development Holdings, LLC, Black Bear SO, LLC, c/o ArcLight Capital Partners, LLC, 200 Clarendon Street, Boston, MA 02117, Phone (617) 531-6338 and Ms. Margaret A. Moore, Ms. Jessica C. Friedman, and Ms. Julia S. Wood, Van Ness Feldman, LLP, 1050 Thomas Jefferson St. NW., Washington, DC 20007-3877, Phone (202) 298-1800.

FERC Contact: Patricia W. Gillis (202) 502-8735, patricia.gillis@ferc.gov.

Deadline for filing comments and motions to intervene: 15 days from the issuance of this notice by the Commission. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-2710 or P-2712) in the docket number field to access the document. For assistance, call toll-free 1-866-208-3372.

Dated: November 16, 2012.
Kimberly D. Bose,
Secretary.

[FR Doc. 2012-28467 Filed 11-23-12; 8:45 am]

BILLING CODE 6717-01-P